DEPARTMENT OF AGRICULTURE

Animal and Plant Health Inspection Service

7 CFR Part 319

[Docket No. 03-022-4]

RIN 0579-AB81

Mexican Hass Avocado Import Program

AGENCY: Animal and Plant Health Inspection Service, USDA.

ACTION: Proposed rule; correction.

SUMMARY: We are correcting errors in the preamble to a proposed rule that would amend the regulations governing the importation of fruits and vegetables to expand the number of States in which fresh Hass avocado fruit grown in approved orchards in approved municipalities in Michoacan, Mexico, may be distributed and to allow the distribution of the avocados during all months of the year. The proposed rule was published in the Federal Register on May 24, 2004 (69 FR 29466-29477, Docket No. 03-022-3).

DATES: We will consider all comments that we receive on Docket No. 03-022-3 on or before July 23, 2004.

ADDRESSES: You may submit comments by any of the following methods:

• Postal Mail/Commercial Delivery: Please send four copies of your comment (an original and three copies) to Docket No. 03-022-3, Regulatory Analysis and Development, PPD, APHIS, Station 3C71, 4700 River Road Unit 118, Riverdale, MD 20737-1238. Please state that your comment refers to Docket No. 03-022-3.

• E-mail: Address your comment to regulations@aphis.usda.gov. Your comment must be contained in the body of your message; do not send attached files. Please include your name and address in your message and “Docket No. 03-022-3” on the subject line.

• Agency Web site: Go to http://www.aphis.usda.gov/ppd/rad/cominst.html for a form you can use to submit an e-mail comment through the APHIS Web site.

• Federal eRulemaking Portal: Go to http://www.regulations.gov and follow the instructions for locating this docket and submitting comments.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: You may view APHIS documents published in the Federal Register and related information, including the names of groups and individuals who have commented on APHIS dockets, on the Internet at http://www.aphis.usda.gov/ppd/rad/webrepor.html.

FOR FURTHER INFORMATION CONTACT: Ms. Karen Bedigian, Import Specialist, Phytosanitary Issues Management Team, PPQ, APHIS, 4700 River Road Unit 140, Riverdale, MD 20737-1236; (301) 734-6799.

SUPPLEMENTARY INFORMATION: On May 24, 2004, we published a proposed rule in the Federal Register (69 FR 29466-29477, Docket No. 03-022-3) in which we proposed to amend the fruits and vegetable regulations in 7 CFR part 319 to expand the number of States in which fresh Hass avocado fruit grown in approved orchards in approved municipalities in Michoacan, Mexico, may be distributed. We also proposed to allow the distribution of the avocados during all months of the year. To reflect these proposed changes, we also proposed to make other changes in the regulations, such as removing restrictions on the ports through which the avocados may enter the United States and the corridor through which the avocados must transit the United States.

This document corrects errors in the SUPPLEMENTARY INFORMATION section of the proposed rule. Specifically, in the discussion of the findings of the pest risk assessment (PRA) prepared for the proposed rule, there is a series of bullet points in which we report the results of the PRA's evaluation of the phytosanitary measures that would be applied under the proposed rule. In two of those bullet points, we have updated the estimated number of fruit-fly-infested avocados that would (1) enter fruit fly susceptible areas each year and (2) be discarded in fruit fly susceptible areas each year to reflect changes made to the PRA itself shortly before the publication of the proposed rule.

Therefore, this document corrects the SUPPLEMENTARY INFORMATION section of the proposal as follows:

SUPPLEMENTARY INFORMATION: In FR Doc. 04-11709, published on May 24, 2004 (69 FR 29466-29477), make the following corrections:

1. On page 29467, column 1, line 23, is corrected by removing the number “143” and adding the number “208” in its place.

2. On page 29467, column 1, line 32, is corrected by removing the number “8” and adding the number “11” in its place.

Done in Washington, DC, this 9th day of June, 2004.
Peter Fernandez,
Acting Administrator, Animal and Plant Health Inspection Service.

[FR Doc. 04-13557 Filed 6-15-04; 8:45 am]

BILLING CODE 3410-34-P